DEPARTMENT OF AGRICULTURE

Forest Service

Winema and Fremont Resource Advisory Committee

AGENCY: Forest Service, USDA.

ACTION: Notice of meeting.

SUMMARY: The Winema and Fremont Resource Advisory Committee will meet in Lakeview, Oregon, for the purpose of evaluating and recommending resource management projects for funding in 2004, under the provisions of Title II of the Secure Rural Schools and Community Self-Determination Act of 2000.

DATES: The meeting will be held on July 2 and 3, 2003.

ADDRESSES: The meeting will be held in the conference room of the Lakeview Interagency Office, 1301 South S Street, in Lakeview. Send written comments to Winema and Fremont Resource Advisory Committee, c/o USDA Forest Service, PO Box 67, Paisley, OR 97636, or electronically to waney@fs.fed.us.

FOR FURTHER INFORMATION CONTACT: W.C. (Bill) Aney, Designated Federal Official, Paisley Ranger District, Fremont and Winema National Forests, PO Box 67, Paisley, OR 97636, telephone (541) 943-4401.

SUPPLEMENTARY INFORMATION: The agenda will include a review of 2002 and 2003 projects recommended by the RAC, consideration of Title II project proposals for 2004 submitted by the Forest Service, the public, and other agencies, presentations by project proponents, and final recommendations for funding of fiscal year 2004 projects. All Winema and Fremont Resource Advisory Committee Meetings are open to the public. There will be a time for public input and comment. Interested citizens are encouraged to attend.

Dated: June 6, 2003.
Jane L. Cottrell,
Acting Forest Supervisor.

[FR Doc. 03-15543 Filed 6-18-03; 8:45 am]

BILLING CODE 3410-11-M